DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Director of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Office of Trade Adjustment Assistance, at the address shown below, not later than October 15, 2013.

Interested persons are invited to submit written comments regarding the subject matter of the investigations to the Director, Office of Trade Adjustment Assistance, at the address shown below, not later than October 15, 2013.

The petitions filed in this case are available for inspection at the Office of the Director, Office of Trade Adjustment Assistance, Employment and Training Administration, U.S. Department of Labor, Room N-5428, 200 Constitution Avenue NW., Washington, DC 20210.

Signed at Washington, DC, this 12th day of September 2013.
Michael W. Jaffe,
Certifying Officer, Office of Trade Adjustment Assistance.

Appendix
[42 TAA petitions instituted between 8/26/13 and 9/6/13]
TA-W | Subject firm (petitioners) | Location | Date of institution | Date of petition
83021 | Ver-Rest Manufacturing Company (State/One-Stop) | West Branch, IA | 08/26/13 | 08/23/13
83022 | The Spencer Turbine Co. (State/One-Stop) | Windsor, CT | 08/26/13 | 08/23/13
83023 | Lumenis Inc.(State/One-Stop) | Salt Lake City, UT | 08/26/13 | 08/21/13
83024 | Blount International (Company) | Portland, OR | 08/26/13 | 08/23/13
83025 | Baxter Healthcare Corporation (State/One-Stop) | Buffalo Grove, IL | 08/27/13 | 08/26/13
83026 | Acxiom Corporation (State/One-Stop) | Little Rock, AR | 08/27/13 | 08/26/13
83027 | Meritor Heavy Vehicle Systems, AKA Arvin Meritor (Union) | Heath, OH | 08/27/13 | 08/19/13
83028 | Nevion USA, Inc., (Company) | Oxnard, CA | 08/27/13 | 08/19/13
83029 | Psion Corporation (Workers) | Hebron, KY | 08/27/13 | 08/12/13
83030 | J.R. Simplot Company (Union) | Boise, ID | 08/27/13 | 08/14/13
83031 | Flextronics (Workers) | Longview, TX | 08/27/13 | 08/26/13
83032 | Hireright (State/One-Stop) | Irvine, CA | 08/28/13 | 08/27/13
83033 | Felman Production, LLC (Union) | Letart, WV | 08/28/13 | 08/27/13
83034 | West Point Products Acquisition, LLC (Company) | Valley Grove, WV | 08/29/13 | 08/28/13
83035 | Americas Sales Operations (Company) | Omaha, NE | 08/29/13 | 08/28/13
83036 | Manpower on site at IBM, Parts Planning Analyzers (Workers) | Camp-Hill, PA | 08/29/13 | 08/28/13
83037 | BCforward (Workers) | Indianapolis, IN | 08/30/13 | 08/29/13
83038 | PolyOne FKA Spartech (State/One-Stop) | Cape Girardeau, MO | 08/30/13 | 08/29/13
83039 | Mitchell International, Inc., ACS Service Center (Company) | San Diego, CA | 08/30/13 | 08/29/13
83040 | Home Dimension, Inc. (Company) | Woodstock, GA | 08/30/13 | 08/30/13
83041 | American Customer Care, Haier Tier One Group (Workers) | Montoursville, PA | 08/30/13 | 08/28/13
83042 | Wellpoint (Anthem BlueCross/Blueshield), PSSCR (State/One-Stop) | Wallingford, CT | 08/30/13 | 08/29/13
83043 | Volcano Corporation (State/One-Stop) | Rancho Cordova, CA | 08/30/13 | 08/29/13
83044 | Spirit Aerosystems Inc. (Union) | Wichita, KS | 08/30/13 | 08/29/13
83045 | Georgia Pacific Corporation (Union) | Halsey, OR | 08/30/13 | 08/21/13
83046 | Fairchild Semiconductor (Company) | West Jordan, UT | 09/03/13 | 08/12/13
83047 | Mount Ida Footwear Co. (State/One-Stop) | Mount Ida, AR | 09/03/13 | 08/30/13
83048 | Goldman Sachs (State/One-Stop) | New York, NY | 09/03/13 | 08/30/13
83049 | Societe Generale C.I.B. (State/One-Stop) | Jersey City, NJ | 09/03/13 | 08/30/13
83050 | Resolute Forest Products (Company) | Catawba, SC | 09/04/13 | 09/03/13
83051 | Medtronic (State/One-Stop) | Minneapolis (Coon Rapids), MN | 09/04/13 | 08/26/13
83052 | Commercial Metals Company (CMC) (State/One-Stop) | Magnolia, AR | 09/04/13 | 09/03/13
83053 | Pitney Bowes (State/One-Stop) | Neenah, WI | 09/05/13 | 08/29/13
83054 | Cooper Lighting, LLC (part of Eaton Corporation) (Company) | Eufaula, AL | 09/05/13 | 09/04/13
83055 | CQ Sourcing (Workers) | New Castle, IN | 09/05/13 | 08/20/13
83056 | Dairy Farmers of America (State/One-Stop) | Monett, MO | 09/05/13 | 09/04/13
83057 | Alpha Wire and Cable (State/One-Stop) | Leominster, MA | 09/05/13 | 08/29/13
83058 | Sysco Corporation (State/One-Stop) | Denver, CO | 09/06/13 | 09/04/13
83059 | Biolitec U.S. Inc. (State/One-Stop) | East Longmeadow, MA | 09/06/13 | 09/04/13
83060 | Lonza Biologics (Company) | Hopkinton, MA | 09/06/13 | 09/03/13
83061 | Bank of America, 7201 North Palm Ave Call Center, Ref: WARN 07/13/13 (State/One-Stop) | Fresno, CA | 09/06/13 | 08/27/13
83062 | Micron Technology Manassas (Workers) | Manassas, VA | 09/06/13 | 08/28/13

[FR Doc. 2013-24194 Filed 10-2-13; 8:45 am]

BILLING CODE 4510-FN-P